SMALL BUSINESS ADMINISTRATION

[Disaster Declaration # 10437 and # 10438]

Illinois Disaster Number IL-00003

AGENCY: U.S. Small Business Administration.

ACTION: Amendment 1.

SUMMARY: This is an amendment of the Presidential declaration of a major disaster for the State of Illinois (FEMA-1633-DR), dated March 28, 2006.

Incident: Tornadoes and Severe Storms.

Incident Period: March 11, 2006 through March 13, 2006.

Effective Date: April 6, 2006.

Physical Loan Application Deadline Date: May 30, 2006.

EIDL Loan Application Deadline Date: December 28, 2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of ILLINOIS, dated March 28, 2006 is hereby amended to include the following areas as adversely affected by the disaster:

Primary Counties:

Morgan, and Greene.

Contiguous Counties:

Illinois: Brown, Calhoun, Jersey, Pike, and Scott.

All other information in the original declaration remains unchanged.

(Catalog of Federal Domestic Assistance Numbers 59002 and 59008)

Cheri L. Cannon,
Acting Associate Administrator for Disaster Assistance.

[FR Doc. E6-5699 Filed 4-17-06; 8:45 am]

BILLING CODE 8025-01-P